DEPARTMENT OF THE INTERIOR

Bureau of Land Management

[LLWY-957000-15-L13100000-PP0000]

Filing of Plats of Survey, Wyoming

AGENCY: Bureau of Land Management, Interior.

ACTION: Notice.

SUMMARY: The Bureau of Land Management (BLM) has filed the plats of survey of the lands described below in the BLM Wyoming State Office, Cheyenne, Wyoming, on the dates indicated.

FOR FURTHER INFORMATION CONTACT: Bureau of Land Management, 5353 Yellowstone Road, P.O. Box 1828, Cheyenne, Wyoming 82003.

SUPPLEMENTARY INFORMATION: These supplementals and surveys were executed at the request of the U.S. Forest Service and the Bureau of Land Management and are necessary for the management of resources. The lands surveyed are:

The supplemental plat showing the survey of Tract 37 is based on a survey executed under state authority by Paul A. Blough, Wyoming Professional Land Surveyor No. 2332. A plat of his survey, titled “PARCELS FOR LAND EXCHANGE,” was recorded in the Park County Clerk's Office, on June 9, 2014, Document No. 2014-2758, Plat Cabinet M, Page 46, Township 49 North, Range 105 West, Sixth Principal Meridian, Wyoming, Group No. 909, was accepted June 17, 2014.

The supplemental plat showing the subdivision of the SE1/4SE1/4, Section 24, into Lots 9 and 10, Sec. 24, is based on the BLM plat accepted August 14, 1991, and on a survey executed under state authority by Paul A. Blough, Wyoming Professional Land Surveyor No. 2332. A plat of his survey, titled “PARCELS FOR LAND EXCHANGE,” was recorded in the Park County Clerk's Office, on June 9, 2014, Document No. 2014-2758, Plat Cabinet M, Page 46, Township 49 North, Range 106 West, Sixth Principal Meridian, Wyoming, Group No. 909, was accepted June 17, 2014.

The plat and field notes representing the dependent resurvey of a portion of the subdivisional lines, the survey of the subdivision of section 11 and the metes-and-bounds survey of Lot 2, section 11, Township 26 North, Range 90 West, Sixth Principal Meridian, Wyoming, Group No. 903, was accepted August 28, 2014.

The plat and field notes representing the dependent resurvey of a portion of the subdivisional lines and the survey of the subdivision of section 34, Township 22 North, Range 87 West, Sixth Principal Meridian, Wyoming, Group No. 904, was accepted August 28, 2014.

The plat and field notes representing the dependent resurvey of a portion of the west boundary, portions of Tracts 59, 73 and 133, and a portion of the subdivisional lines, and the survey of the subdivision of section 30, Township 55 North, Range 66 West, Sixth Principal Meridian, Wyoming, Group No. 880, was accepted September 19, 2014.

The plat and field notes representing the dependent resurvey of a portion of the subdivisional lines and the survey of the subdivision of section 24, Township 55 North, Range 67 West, Sixth Principal Meridian, Wyoming, Group No. 880, was accepted September 19, 2014.

The plat and field notes representing the retracement of the Wyoming-South Dakota State Boundary between Mile Posts 58 and 60, the dependent resurvey of portions of the subdivisional lines, and the survey of the subdivision of sections 27 and 28, Township 45 North, Range 60 West, Sixth Principal Meridian, Wyoming, Group No. 881, was accepted September 19, 2014.

The plat and field notes representing the corrective dependent resurvey of a portion of the subdivisional lines, the dependent resurvey of portions of the subdivisional lines, the survey of the subdivision of certain sections, and the metes and bounds survey of Lot 1, section 33, Township 57 North, Range 95 West, Sixth Principal Meridian, Wyoming, Group No. 884, was accepted September 19, 2014.

The plat and field notes representing the dependent resurvey of portions of Lot No. 59 and Lot No. 60 and the metes and bounds survey of Lot 60-B, Lot No. 60, Township 51 North, Range 103 West, Sixth Principal Meridian, Wyoming, Group No. 886, was accepted September 19, 2014.

The plat and field notes representing the dependent resurvey of a portion of Lot No. 89, portions of the subdivisional lines and subdivision of section 10, the survey of the subdivision of Lot No. 89 and section 10, and the metes and bounds survey of certain lots, Township 55 North, Range 100 West, Sixth Principal Meridian, Wyoming, Group No. 900, was accepted September 19, 2014.

The plat and field notes representing the dependent resurvey of portions of the subdivisional lines and portions of Tract 38, and the survey of the subdivision of sections 8 and 9, Township 24 North, Range 99 West, Sixth Principal Meridian, Wyoming, Group No. 882, was accepted October 24, 2014.

The plat and field notes representing the dependent resurvey of a portion of the east boundary and subdivisional lines, and the survey of the subdivision of section 24, Township 34 North, Range 110 West, Sixth Principal Meridian, Wyoming, Group No. 899, was accepted October 24, 2014.

Copies of the preceding described plats and field notes are available to the public at a cost of $1.10 per page.

Dated: December 10, 2014.
John P. Lee,
Chief Cadastral Surveyor, Division of Support Services.

[FR Doc. 2014-29405 Filed 12-15-14; 8:45 am]

BILLING CODE 4310-22-P